DEPARTMENT OF HEALTH AND HUMAN SERVICES

Health Resources and Services Administration

Agency Information Collection Activities: Proposed Collection: Comment Request

ACTION: Notice.

SUMMARY: In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

HRSA especially requests comments on: (1) The necessity and utility of the proposed information collection for the proper performance of the agency's functions, (2) the accuracy of the estimated burden, (3) ways to enhance the quality, utility, and clarity of the information to be collected, and (4) the use of automated collection techniques or other forms of information technology to minimize the information collection burden.

Information Collection Request Title: Patient Survey-Health Centers (OMB No. 0915-xxxx) NEW.

The Health Center program supports Health Centers (HCs), Migrant Health Centers (MHCs), Health Care for the Homeless (HCH) programs, and Public Housing Primary Care (PHPC) programs. Health Centers (HCs) receive grants from HRSA to provide primary and preventive health care services to medically underserved populations.

The proposed Patient Survey will collect nationally in-depth information about HC patients, their health status, the reasons they seek care at the HCs, their diagnoses, the services they utilize at HCs and elsewhere, the quality of those services, and their satisfaction with the care they receive, through personal interviews of a stratified random sample of HC patients. Prior to the national study, a cognitive pre-test will be conducted to refine and test the survey instrument in different languages, and to test the survey sampling methodologies and procedures. The pre-test will include cognitive interviews to ensure that the questions are being understood as was intended. Interviews conducted in the pre-test and the national study are estimated to take approximately 1 hour and 15 minutes each.

The Patient Survey builds on previous periodic Patient User-Visit Surveys, which were conducted to learn about the process and outcomes of care in HCs and MHCs, HCHs, and PHPCs. The original questionnaires were derived from the National Health Interview Survey (NHIS) and the National Ambulatory Medical Care Survey (NAMCS) conducted by the National Center for Health Statistics (NCHS). Conformance with the NHIS and NAMCS allowed comparisons between these NCHS surveys and the previous HC and HCH User-Visit Surveys. The new Patient Survey was developed using a questionnaire methodology similar to that used in the past and will also potentially allow some longitudinal comparisons for HCs and HCHs with the previous User-Visit survey data, including monitoring of processes and outcomes over time. In addition, this survey will be conducted in languages not used during previous surveys (which were conducted in English and Spanish) to include patients from different racial and ethnic backgrounds, including Chinese (Mandarin and Cantonese), Korean, and Vietnamese. With the exception of Spanish speakers, other racial and ethnic subgroups were not able to participate in the previous surveys.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this Information Collection Request are summarized in the table below.

The annual estimate of burden is as follows:

Survey Pretest
Form name | Number of respondents | Number of responses per respondent | Total responses | Average burden per response (in hours) | Total burden hours
Grantee/Site Recruitment | 2 | 3 | 6 | 3.00 | 18.00
Patient Recruitment (At clinic) | 21 | 1 | 21 | .17 | 3.57
Patient Survey (Administered at clinic) | 16 | 1 | 16 | 1.25 | 20.00
Patient Recruitment (Through local advertisements/flyers/word-of-mouth) | 71 | 1 | 71 | .08 | 5.68
Patient Survey (Administered following local advertising) | 55 | 1 | 55 | 1.25 | 68.75
Total Pretest |  |  |  |  | 116.00

National Study
Form name | Number of respondents | Number of responses per respondent | Total responses | Average burden per response (in hours) | Total burden hours
Grantee/Site Recruitment and Training | 165 | 3 | 495 | 3.75 | 1,856.25
Patient Recruitment | 9,207 | 1 | 9,207 | .17 | 1,565.19
Patient Survey | 6,600 | 1 | 6,600 | 1.25 | 8,250.00
Total National Study |  |  |  |  | 11,671.44

Addresses: Submit your comments to paperwork@hrsa.gov or mail the HRSA Reports Clearance Officer, Room 10-29, Parklawn Building, 5600 Fishers Lane, Rockville, MD 20857.

Deadline: Comments on this Information Collection Request must be received within 60 days of this notice.

Dated: January 3, 2013.
Bahar Niakan,
Director, Division of Policy and Information Coordination.

[FR Doc. 2013-00364 Filed 1-10-13; 8:45 am]

BILLING CODE 4165-15-P